DEPARTMENT OF THE INTERIOR

Bureau of Land Management

[CO-920; COC-28650]

Public Land Order No. 7558; Opening of National Forest System Land Under Section 24 of the Federal Power Act; Colorado

AGENCY: Bureau of Land Management, Interior.

ACTION: Public land order.

SUMMARY: This order opens, subject to the provisions of section 24 of the Federal Power Act, 54.88 acres of National Forest System land withdrawn by a Secretarial Order which established Bureau of Land Management Power Site Classification No. 372. This action will permit consummation of pending land disposal and retain the power rights to the United States. The land has been and will remain open to mineral leasing and, under the provisions of the Mining Claims Rights Restoration Act of 1955, to mining.

EFFECTIVE DATE: April 21, 2003.

FOR FURTHER INFORMATION CONTACT: Doris E. Chelius, BLM Colorado State Office, 2850 Youngfield Street, Lakewood, Colorado 80215-7093, (303) 239-3706.

Order

By virtue of the authority vested in the Secretary of the Interior by section 24 of the Act of June 10, 1920, as amended, 16 U.S.C. 818 (1994), and pursuant to the determination of the Federal Energy Regulatory Commission in DVCO-560-000, it is ordered as follows:

At 9 a.m. on April 21, 2003, the following described National Forest System land withdrawn by the Secretarial Order dated October 31, 1944, which established Power Site Classification No. 372, will be opened to disposal, subject to the provisions of section 24 of the Federal Power Act as specified by the Federal Energy Regulatory Commission determination DVCO-560-000, and subject to valid existing rights, the provisions of existing withdrawals, other segregations of record, and the requirements of applicable law:

Roosevelt National Forest

Sixth Principal Meridian

T. 1 S., R. 73 W.,

sec. 35, lots 21, 22, and 23.

The area described contains 54.88 acres in Gilpin County.

Dated: March 5, 2003.
Rebecca W. Watson,
Assistant Secretary—Land and Minerals Management.

[FR Doc. 03-6672 Filed 3-19-03; 8:45 am]

BILLING CODE 3410-11-P